DEPARTMENT OF TRANSPORTATION

Federal Motor Carrier Safety Administration

[Docket Nos. FMCSA-98-3298 and FMCSA-98-3299]

Programmatic Environmental Impact Statement and General Conformity Evaluation for Proposed North American Free Trade Agreement Regulations

AGENCY: Federal Motor Carrier Safety Administration (FMCSA), DOT.

ACTION: Notice of intent.

SUMMARY: The FMCSA is issuing this notice to advise the public a Programmatic Environmental Impact Statement (PEIS) will be prepared pursuant to the National Environmental Policy Act of 1969 (NEPA) and a General Conformity Evaluation will be made pursuant to the Clean Air Act (CAA) before promulgation of the FMCSA's proposed regulations regarding (1) the application process for Mexico-domiciled motor carriers desiring to operate beyond the U.S.-Mexico border commercial zones and (2) the safety monitoring system applicable to all Mexico-domiciled motor carriers.

FOR FURTHER INFORMATION CONTACT: Mr. Charles Rombro, Analysis Division, Office of Information Management, (202) 366-1861, FMCSA, Department of Transportation, 400 Seventh Street, SW., Washington, DC 20590-0001.

SUPPLEMENTARY INFORMATION: The FMCSA is responsible for ensuring the safe operation of commercial motor vehicles within the United States. In carrying out these responsibilities, the FMCSA proposed regulations in May 2001 prescribing procedures for applications and safety monitoring for Mexico-domiciled carriers seeking authority to operate within the United States beyond the border commercial zones pursuant to the North American Free Trade Agreement and the anticipated modification by the President of the statutory moratorium on the grant of operating authority to these carriers. The proposed rules are commonly referred to as the “Application” and “Safety Monitoring” rules.

The FMCSA conducted a Programmatic Environmental Assessment (PEA) for the Application and Safety Monitoring rules. Based on the PEA, FMCSA concluded a PEIS was not required for these rules because the rules did not significantly affect the quality of the human environment. The FMCSA issued interim final Application and Safety Monitoring rules on March 7, 2002 (see 67 FR 12702 and 67 FR 12758). The FMCSA placed the PEA and Finding of No Significant Impact in the respective dockets.

On March 19, 2002, the FMCSA issued an interim final rule establishing certification standards for motor carrier safety auditors, investigators and inspectors (67 FR 12776). This rule (commonly referred to as the “Certification” rule) applied to all safety audits, inspections and reviews within the FMCSA's jurisdiction, not just those involving Mexico-domiciled carriers. Congress mandated this rule as part of the Motor Carrier Safety Improvement Act of 1999 (49 U.S.C. 31148). However, Congress, as part of the Department of Transportation Appropriations Act for fiscal year 2002, also made issuance of the Certification rule one of several conditions that had to be met before FMCSA could expend appropriated funds to process applications filed by Mexico-domiciled carriers seeking authority to operate in the United States beyond the border commercial zones. The FMCSA determined the Certification rule was not subject to environmental analysis due to a categorical exclusion.

A group of labor, industry, and environmental organizations sought review of the regulations in the United States Court of Appeals for the Ninth Circuit, alleging FMCSA had violated NEPA and the CAA. The Ninth Circuit ruled a PEIS and General Conformity Evaluation under the CAA were required. The Court also determined the Certification rule did not fall within any of the existing DOT categorical exclusions and therefore, the court held DOT acted arbitrarily and capriciously by failing to conduct any environmental analysis.

In light of the Ninth Circuit's opinion, the FMCSA intends to prepare a PEIS pursuant to NEPA and perform a General Conformity Evaluation pursuant to the CAA for the Application and Safety Monitoring rules. The PEIS will be developed pursuant to the Council on Environmental Quality (CEQ) regulations, 40 CFR 1500 et seq., and DOT Order 5610.1C, which supplements the CEQ regulations by applying them to DOT programs. The General Conformity Evaluation will be conducted pursuant to the U.S. Environmental Protection Agency's general conformity regulations, 40 CFR parts 51 and 93.

The FMCSA is currently preparing an Environmental Assessment (EA) for the Certification rule. Should the EA determine an EIS is required for the Certification rule, a supplemental Notice of Intent will be issued.

A letter describing the proposed regulations and soliciting comments will be sent to all appropriate Federal, State, local, and tribal agencies, as well as to private organizations and individuals who have expressed an interest in this matter. Interagency and public scoping meetings will be scheduled in the near future. Public notice will be given, providing the time and place of the meetings.

To ensure the full range of issues related to these proposed regulations are addressed and all significant issues identified, comments and suggestions are invited from all interested parties. Comments or questions concerning the proposed regulations and the PEIS should be directed to the FMCSA at the above address.

(Catalog of Federal Domestic Assistance Program Number 20.205, Highway Planning and Construction, and Number 20.218 National Motor Carrier Safety (MCSAP). The regulations implementing Executive Order 12372 regarding intergovernmental consultation on Federal programs and activities apply to this program.)
Issued on: August 20, 2003.
Annette M. Sandberg,
Administrator.

[FR Doc. 03-21743 Filed 8-25-03; 8:45 am]

BILLING CODE 4910-EX-P